NUCLEAR REGULATORY COMMISSION

[Docket Nos. 50-528, 50-529, 50-530; NRC-2009-0012]

Notice of Availability of the Draft Supplement 43 to the Generic Environmental Impact Statement for License Renewal of Nuclear Plants, and Public Meetings for the License Renewal of Palo Verde Nuclear Generating Stations, Units 1, 2, and 3

Notice is hereby given that the U.S. Nuclear Regulatory Commission (NRC or Commission) has published a draft plant-specific supplement to the Generic Environmental Impact Statement for License Renewal of Nuclear Plants (GEIS), NUREG-1437, regarding the renewal of operating licenses NPF-41, NPF-51 and NPF-74 for an additional 20 years of operation for Palo Verde Nuclear Generating Station Units 1, 2, and 3. Possible alternatives to the proposed action (license renewal) include no action and reasonable alternative energy sources.

Any interested party may submit comments on the draft supplement to the GEIS for consideration by the NRC staff. To be considered, comments on the draft supplement to the GEIS and the proposed action must be received by 10/29/10; the NRC staff is able to ensure consideration only for comments received on or before this date.

ADDRESSES: You may submit comments by any one of the following methods. Please include Docket ID NRC-2009-0012 in the subject line of your comments. Comments submitted in writing or in electronic form will be posted on the NRC Web site and on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2009-0012. Address questions about NRC dockets to Carol Gallagher 301-492-3668; e-mail Carol.Gallagher@nrc.gov.

Mail comments to: Cindy Bladey, Chief, Rules, Announcements, and Directives Branch (RADB), Division of Administrative Services, Office of Administration, Mail Stop: TWB-05-B01M, U.S. Nuclear Regulatory Commission, Washington, DC 20555-0001. Faxes are to be sent to RADB at 301-492-3446.

You can access publicly available documents related to this notice using the following methods:

NRC's Public Document Room (PDR): The public may examine and have copied for a fee publicly available documents at the NRC's PDR, Public File Area O1 F21, One White Flint North, 11555 Rockville Pike, Rockville, Maryland 20852.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The Accession Number for the draft Supplement 43 to the GEIS is ML102180167.

Federal Rulemaking Web site: Public comments and supporting materials related to this notice can be found at http://www.regulations.gov by searching on Docket ID: NRC-2009-0012.

In addition, a copy of the draft supplement to the GEIS is available to local residents near the site at the Litchfield Park Branch Library, 101 West Wigwam Boulevard, Litchfield Park, AZ 85340 and the Sam Garcia Western Avenue Library, 495 East Western Avenue, Avondale, AZ 85323. Comments received after the due date will be considered only if it is practical to do so.

Also, electronic comments may be submitted to the NRC by e-mail at PaloVerdeEIS@nrc.gov. All comments received by the Commission, including those made by Federal, State, local agencies, Native American Tribes, or other interested persons, will be made available electronically at the Commission's PDR in Rockville, Maryland, and through ADAMS.

The NRC staff will hold public meetings prior to the close of the public comment period to present an overview of the draft plant-specific supplement to the GEIS and to accept public comments on the document. Two meetings will be held at Tonopah Valley High School, Tonopah, Arizona and Estrella Mountain Community College in Avondale, AZ, on Wednesday, September 15, 2010. The first session will convene at 2 p.m. and will continue until 3:45 p.m., as necessary. The second session will convene at 7 p.m. and will continue until 9:30 p.m., as necessary. The meetings will be transcribed and will include: (1) a presentation of the contents of the draft plant-specific supplement to the GEIS, and (2) the opportunity for interested government agencies, organizations, and individuals to provide comments on the draft report. Additionally, the NRC staff will host informal discussions one hour prior to the start of each session at the same location. No comments on the draft supplement to the GEIS will be accepted during the informal discussions. To be considered, comments must be provided either at the transcribed public meeting or in writing. Persons may pre-register to attend or present oral comments at the meeting by contacting Mr. David Drucker, the NRC Environmental Project Manager, at 1-800-368-5642, extension 6223, or by e-mail at David.Drucker@nrc.gov, no later than 9/2/10. Members of the public may also register to provide oral comments within 15 minutes of the start of each session. Individual, oral comments may be limited by the time available, depending on the number of persons who register. If special equipment or accommodations are needed to attend or present information at the public meeting, the need should be brought to Mr. Drucker's attention no later than 9/2/10, to provide the NRC staff adequate notice to determine whether the request can be accommodated.

FOR FURTHER INFORMATION CONTACT: Mr. David Drucker, Program Operations Branch, Division of License Renewal, Office of Nuclear Reactor Regulation, U.S. Nuclear Regulatory Commission, Mail Stop O-11F1, Washington, DC 20555-0001. Mr. Drucker may be contacted at the aforementioned telephone number or e-mail address.

Dated at Rockville, Maryland, this 12th day of August 2010.
For the Nuclear Regulatory Commission.
Jay Robinson,
Chief, Program Operations Branch, Division of License Renewal, Office of Nuclear Reactor Regulation.

[FR Doc. 2010-20695 Filed 8-19-10; 8:45 am]

BILLING CODE 7590-01-P